DEPARTMENT OF THE TREASURY

Submission for OMB Review; Comment Request

March 21, 2013.

The Department of the Treasury will submit the following information collection requests to the Office of Management and Budget (OMB) for review and clearance in accordance with the Paperwork Reduction Act of 1995, Public Law 104-13, on or after the date of publication of this notice.

DATES: Comments should be received on or before April 25, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-0052.

Type of Review: Revision of a currently approved collection.

Title: Form 990-PF, Return of Private Foundation or Section 4947(a)(1) Nonexempt Charitable Trust Treated as a Private Foundation, and Form 4720, Return of Certain Excise Taxes on Charities and Other.

Form: 990-PF, 4720.

Abstract: IRC section 6033 requires all private foundations, including section 4947(a)(1) trusts treated as private foundations, to file an annual information return. Section 53.4940-1(a) of the Income Tax Regulations requires that the tax on net investment income be reported on the return filed under section 6033. Form 990-PF is used for this purpose. Section 6011 requires a report of taxes under Chapter 42 of the Code for prohibited acts by private foundation and certain related parties. Form 4720 is used by foundations and/or related persons to report prohibited activities in detail and pay the tax on them.

Affected Public: Private Sector: Not-for-profit institutions.

Estimated Total Burden Hours: 11,054,637.

OMB Number: 1545-0196.

Type of Review: Extension without change of a currently approved collection.

Title: Split-Interest Trust Information Return.

Form: 5227 and worksheets.

Abstract: The data reported is used to verify that the beneficiaries of a charitable remainder trust include the correct amounts in their tax returns, and that the split-interest trust is not subject to private foundation taxes.

Affected Public: Private Sector: Businesses or other for-profits.

Estimated Total Burden Hours: 15,152,550.

OMB Number: 1545-1546.

Type of Review: Extension without change of a currently approved collection.

Title: Revenue Procedure 97-33, EFTPS (Electronic Federal Tax Payment System).

Abstract: Some taxpayers are required by regulations issued under Sec. 6302 (h) of the Internal Revenue Code to make Federal Tax Deposits (FTDs) using the Electronic Federal Tax Payment System (EFTPS); other taxpayers may choose to voluntarily participate in EFTPS. EFTPS requires that a taxpayer complete an enrollment form to provide the information the IRS needs to properly credit the taxpayer's account. Revenue Procedure 97-33 provides procedures and information that will help taxpayers to electronically make FTDs and tax payments through EFTPS.

Affected Public: Private Sector: Businesses or other for-profits; Not-for-profit institutions, and Farms.

Estimated Total Burden Hours: 278,622.

Dawn D. Wolfgang,
Treasury PRA Clearance Officer.

[FR Doc. 2013-06841 Filed 3-25-13; 8:45 am]

BILLING CODE 4830-01-P